FEDERAL COMMUNICATIONS COMMISSION

47 CFR Part 73

[DA 01-185, MM Docket No. 97-188, RM-9137]

Radio Broadcasting Services; Walnut Grove, MS

AGENCY: Federal Communications Commission.

ACTION: Final rule.

SUMMARY: This document grants a Petition for Reconsideration filed by Colon Johnston directed to the Report and Order in this proceeding to the extent of allotting Channel 244C2 to Walnut Grove, Mississippi. The Report and Order had dismissed this proposal. See 63 FR 26993, May 15, 1998. The reference coordinates for the Channel 244C2 allotment at Walnut Grove, Mississippi, are 32-42-50 and 89-23-48. With this action, the proceeding is terminated.

DATES: Effective March 13, 2001.

FOR FURTHER INFORMATION CONTACT: Robert Hayne, Mass Media Bureau, (202) 418-2177.

SUPPLEMENTARY INFORMATION: This is a synopsis of the Commission's Memorandum Opinion and Order in MM Docket No. 97-188. Adopted January 24, 2001, and released January 26, 2001. The full text of this decision is available for inspection and copying during normal business hours in the FCC Reference Information Center at Portals 11, CY-A257, 445 12th Street SW., Washington, DC. The complete text of this decision may also be purchased from the Commission's copy contractor, International Transcription Service, Inc., (202) 857-3805, 1231 M Street NW., Washington, DC 20036.

List of Subjects in 47 CFR Part 73

Radio broadcasting.

Part 73 of Title 47 of the Code of Federal Regulations is amended as follows:

47 CFR Part 73—RADIO BROADCAST SERVICES

1. The authority citation for Part 73 continues to read as follows:

Authority: 47 U.S.C. 154, 303, 334 and 336.

§ 73.202 [Amended]

Section 73.202(b), the Table of FM Allotments under Mississippi, is amended by adding Walnut Grove, 244C2.

Federal Communications Commission.
John A. Karousos,
Chief, Allocations Branch, Policy and Rules Division, Mass Media Bureau.

[FR Doc. 01-3410 Filed 2-8-01; 8:45 am]

BILLING CODE 6712-01-U